DEPARTMENT OF HOUSING AND URBAN DEVELOPMENT

[Docket No. FR-5285-N-02]

Notice of Proposed Information Collection: Comment Request; FHA Lender Approval, Annual Renewal, Periodic Updates and Noncompliance Reporting by FHA Approved Lenders

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: March 30, 2009.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Program Contact, Director, Office of Lender Activities and Program Compliance, Department of Housing and Urban Development, 451 7th Street, SW., Room B133-P3214, Washington, DC 20410, telephone (202) 708-1515 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: FHA Lender Approval, Annual Renewal, Periodic Updates and Noncompliance Reports by FHA Approved Lenders.

OMB Control Number, if applicable: 2502-0005.

Description of the need for the information and proposed use: The information is used by FHA to verify that lenders meet all approval, renewal, update and compliance requirements at all times. It is also used to assist FHA in managing its financial risks and protect consumers from lender noncompliance with FHA rules and regulations.

The application form 11701 that was previously covered by this collection was shared with Ginnie Mae for its applicants. It is also approved under 2503-0033. The application form in this collection has been revised to only cover FHA lender approval applicants and has a new form number 92001-A

Agency form numbers, if applicable:

HUD-92001-A Previously HUD-11701, FHA Lender Approval Application Form.

HUD-92001-B FHA Branch Registration Form.

HUD-92001-C Previously HUD-56005, Noncompliances on Title I Loans.

HUD 92001-D Previously HUD-11701-E, Noncompliances on Title II Mortgages.

HUD-92001-E Previously HUD-11701-A, Application Fee for Title I.

HUD-92001-F Previously HUD-11701-B, Application Fee for Title II.

HUD-92001-G Previously HUD-11701-C. Title I Lender Annual Verification Report.

HUD-92001-H Previously HUD-11701-D, Title II Lender Annual Verification Report.

Estimation of the total numbers of hours needed to prepare the information collection including number of respondents, frequency of response, and hours of response:

Information Collection Burden
Item No. | Information collection | Number of respondents | Total annual responses | Hours per response | Total annual hours | Cost per hour | Total annual cost
A | Paper submission of HUD-92001-A Application for FHA Lender Approval, or Conversion, including attachments | 4,000 | 4,000 | 2.0 | 8,000 | $47 | $376,000
B | Electronic submission of HUD-92001-A Application for FHA Lender Approval or Conversion, including attachments (Currently under development) |  |  | .5 |  | 47
C | Paper Submission of HUD-92100-B Application for Registration of New Branch (including attachments) |  | 1,500 | 0.5 | 750 | 47 | 35,250
D | Electronic Registration of New Branch by Mortgagees via FHA Connection |  | 3,500 | 0.1
E | Paper submission of HUD-92001-C Non-Compliance Report on Title I Loans |  | 100 | 1 | 100 | 47 | 4,700
F | Electronic submission of HUD-92100-D Lender Self Reporting on Title II Mortgages pursuant to Lender Quality Control Plans via FHA Connection |  | 2,400 | 0.15 | 360 | 47 | 16,920
G | Paper submission of HUD-92001-E and 92001-F Application Fee Cover Sheets for Title I and Title II Lender Approval Applications or Conversion |  | 4,000 | 0.05 | 200 | 47 | 9,400
H | Electronic payment of Application Fee for Title I or Title II Lender Approval or Conversion using pay.gov (currently under development) |  |  | .05
I | Paper submission of HUD 92001-E and 92001-F Fee Cover Sheets for Title I and Title II Branch Registration |  | 1,500 | .05 | 75 | 47 | 3,525
J | Electronic payment of fee for Title I or Title II Branch Registration using pay.gov via FHA Connection. |  | 3,500 | .05 | 175 | 47 | 8,225
K | Paper submission of HUD-92001-G and 92001-H for Title I and Title II Annual Verification Report by all FHA Approved Lenders | 13,000 | 13,000 | .10 | 1,300 | 47 | 61,100
L | Electronic submission of Annual Verification Report via FHA Connection by all FHA Approved Lenders via FHA Connection (currently under development) |  |  | .10
M | Electronic Submission of Annual Financial Statements using the Lender Assessment SubSystem via FHA Connection by Title I and Title II Nonsupervised Mortgagees and Loan Correspondents |  | 10,000 | 3 | 30,000 | 47 | 1,410,000
N | Electronic payment of annual renewal fee of FHA lender approval using pay.gov via of FHA Connection |  | 12,000 | .05 | 600 | 47 | 28,200
O | Electronic Termination of Existing Branch by all lenders via FHA Connection |  | 4,000 | 0.05 | 200 | 47 | 9,400
P | Non-Address Business Change Notification (by paper) |  | 600 | 0.5 | 300 | 47 | 14,100
Q | Address Updates via FHA Connection (electronic) |  | 3,000 | 0.25 | 750 | 47 | 35,250
R | Personnel Change Notification of new owners, officers, directors or partners (by paper) |  | 1,000 | 0.5 | 500 | 47 | 23,500
S | Voluntary Termination by a Lender (by letter) |  | 500 | 0.25 | 125 | 47 | 5,875
T | Credit Watch Termination Reinstatements (by paper) |  | 14 | 8 | 112 | 47 | 5,264
| Totals |  | 63,614 |  | 43,547 | 47 | 2,046,709

Status of the proposed information collection: Extension of currently approved collection.

Authority: The Paperwork Reduction Act of 1995, 44 U.S.C., Chapter 35, as amended.

Dated: January 21, 2009.
Ronald Y. Spraker,
Acting General Deputy Assistant Secretary for Housing—Deputy Federal Housing Commissioner.

[FR Doc. E9-1824 Filed 1-27-09; 8:45 am]

BILLING CODE 4210-67-P